DEPARTMENT OF DEFENSE

Department of the Army

Privacy Act of 1974; System of Records

AGENCY: Department of the Army, DoD.

ACTION: Notice to alter a system of records.

SUMMARY: The Department of the Army is proposing to alter a system of records notice in its existing inventory of records systems subject to the Privacy Act of 1974, (5 U.S.C. 552a), as amended.

The Department of the Army is proposing to alter the existing system of records by adding a new purpose, i.e., to support the families of service members, and two new routine uses as follows:

Information from these records may be disclosed to the Department of Veterans Affairs, and other Federal agencies in connection with eligibility, notification and assistance in obtaining benefits due.

‘Information from these records may be released to family members of injury or killed DoD personnel to aid in the settlement of the member's estate or other affairs.

DATES: This proposed action will be effective without further notice on April 1, 2005 unless comments are received which result in a contrary determination.

ADDRESSES: Department of the Army, Freedom of Information/Privacy Office Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6497.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on February 1, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 24, 2005.
Jeannette Owings-Ballard,
OSD Federal Register Liaison Officer, Department of Defense.

A0600-8-1c AHRC DoD

System name:

Defense Casualty Information Processing System (DCIPS) (November 18, 2004, 69 FR 67551).

Changes:

* * * * *

System location:

Delete entry and replace with U.S. Army Human Resources Command, 200 Stovall Street, Alexandria, VA 22332-0481.

Commander, Headquarters Air Force Military Personnel Center, 550 C Street W, Randolph Air Force Base, TX 78150-4703.

Commander, Navy Personnel Command, 5720 Integrity Drive, Millington, TN 38055-3130.

Commandant of the Marine Corps Headquarters, U.S. Marine Corps, 3280 Russell Road, Quantico, VA 22134-5101.

* * * * *

Authority for maintenance of the system:

Delete entry and replace with “10 U.S.C. 3013, Secretary of the Army; 10 U.S.C. 5013, Secretary of the Navy; 10 U.S.C. 8013, Secretary of the Air Force; 10 U.S.C. 5043, Commandant of the Marine Corps; DoD Instruction 1300.18, Personnel Casualty Matters, Policies, and Procedures; DoD Directive 1300.22, Mortuary Affairs Policy; DoD Directive 1300.15, Military Funeral Support; Office of the Assistant Secretary of Defense Memorandum, subject: Defense Casualty Information Processing System, dated Oct 22, 1999; and E.O. 9397 (SSN). For a complete list of individual Service implementing regulations, contact the system manager.”

Purpose(s):

Add to the end of the entry ‘and to support the families of service members’.

Routine uses of records maintained in the system, including categories of users and the purposes of such uses: Add two new paragraphs ‘Information from these records may be disclosed to the Department of Veterans Affairs, and other Federal agencies in connection with eligibility, notification and assistance in obtaining benefits due.

Information from these records may be released to family members of injury or killed DoD personnel to aid in the settlement of the member's estate or other affairs.’

* * * * *

A0600-8-1c AHRC DoD

System name:

Defense Casualty Information Processing System (DCIPS).

System location:

U.S. Army Human Resources Command 200 Stovall Street, Alexandria, VA 22332-0481.

Commander, Headquarters Air Force Military Personnel Center, 550 C Street W, Randolph Air Force Base, TX 78150-4703.

Commander, Navy Personal Command, 5720 Integrity Drive, Millington, TN 38055-3130.

Commandant of the Marine Corps Headquarters, U.S. Marine Corps, 3280 Russell Road, Quantico, VA 22134-5101.

Categories of individuals covered by the system:

Department of Defense military personnel (active component and reserve component) and their family members; DoD civilian personnel, retired service members, non-DoD civilians, and other individuals that are reported as casualties.

Categories of records in the system:

Individual's name, Social Security Number, date of birth, branch of service, organization, duty, Army rank and military occupational speciality (MOS), Air Force Specialty Code (AFSC) and rank, Navy rank and rate, Marine Corp rank and specialty code, sex, race, religion, home of record, and other pertinent information; personnel records, correspondence with primary next of kin/secondary next of kin, inquiries from other agencies and individuals, DD Form 1300 (Report of Casualty).

Authority for maintenance of the system:

10 U.S.C. 3013, Secretary of the Army; 10 U.S.C. 5013, Secretary of the Navy; 10 U.S.C. 8013, Secretary of the Air Force; 10 U.A.C. 5043, Commandant of the Marine Corps; DoD Instruction 1300.18, Personnel Casualty Matters, Policies, and Procedures; DoD Directive 1300.22, Mortuary Affairs Policy; DoD Directive 1300.15, Military Funeral Support; Office of the Assistant Secretary of Defense Memorandum, subject: Defense Casualty Information Processing System, dated Oct 22, 1999; and E.O. 9397 (SSN). For a complete list of individual Service implementing regulations, contact the system manager.

Purpose(s):

To provide DoD with a single joint military casualty information processing system; to provide support for the management of casualty and mortuary affairs by the Services Casualty and Mortuary Affairs Offices; to respond to inquiries; to provide statistical data comprising type, number, place and cause of incident to DoD Services' members; and to support the families of service members.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

Information from these records may be disclosed to the Department of Veterans Affairs, and other Federal agencies in connection with eligibility, notification and assistance in obtaining benefits due.

Information from these records may be released to family members of injury or killed DoD personnel to aid in the settlement of the member's estate or other affairs.

The DoD ‘Blanket Routine Uses’ set forth at the beginning of the Army's compilation of systems of records notices also apply to this system.

Policies and practices for storing, retrieving, accessing, retaining, and disposing of records in the system:

Storage:

Paper records in file folders and on electronic storage media.

Retrievability:

By individual's name and/or Social Security Number or any other data element.

Safeguards:

All information is restricted to a secure area in buildings that employ security guards. Computer printouts and magnetic tapes and files are protected by password known only to properly screened personnel possessing special authorization for access.

Retention and disposal:

Records are permanent.

System managers and addresses:

Commander, U.S. Army Human Resources Command, 200 Stovall Street, Alexandria, VA 22332-0481.

Commander, Headquarters Air Force Military Personnel Center, 550 C Street W, Randolph Air Force Base, TX 78150-4703.

Commander, Navy Personnel Command, 5720 Integrity Drive, Millington, TN 38055-3130.

Commandant of the Marine Corps Headquarters, U.S. Marine Corps, 3280 Russell Road, Quantico, VA 22134-5101.

Notification procedure:

Individuals seeking to determine if information about themselves is contained in this record system should address written inquiries to the appropriate system manager.

Individual should provide full name, current address and telephone number, and should identify the person who is the subject of the inquiry by name, rank and Social Security Number or Service Number.

Record access procedures:

Individuals seeking to determine if information about themselves is contained in this record system should address written inquiries to the appropriate system manager.

Individual should provide full name, current address and telephone number, and should identify the person who is the subject of the inquiry by name, rank and Social Security Number or Service Number.

Contesting record procedures:

The Army's rules for accessing records, and for contesting contents and appealing initial agency determinations are contained in Army Regulation 340-21; 32 CFR part 505; or may be obtained from the system manager.

Record source categories:

From casualty reports and investigations received from commander, medical personnel, medical examiners, and other related official sources.

Exemptions claimed for the system:

None.

[FR Doc. 05-4031 Filed 3-1-05; 8:45 am]

BILLING CODE 5001-06-M